NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) October 22-23, 2007. A sample of agenda items to be discussed during the public session includes: (1) NARM legislation, transition plan, and guidance; (2) status of specialty board applications for NRC recognition; (3) Y-90 microspheres guidance; (4) training and experience implementation issues; (4) recent security activities; (5) potential changes to 10 CFR Part 35; (6) licensing guidance for the Leksell Gamma-Knife® Perfexion™; and (7) review of recent medical events. A copy of the agenda will be available at http://www.nrc.gov/reading-rm/doc-collections/acmui/agenda or by e-mailing Ms. Ashley M. Tull at the contact information below.

Purpose: Discuss issues related to 10 CFR Part 35 Medical Use of Byproduct Material.

Date and Time for Closed Sessions: October 22, 2007, from 8 a.m. to 10 a.m. This session will be closed so that NRC staff and ACMUI can discuss Committee business, which may include: Ethics training, personnel information, and other internal NRC issues.

Date and Time for Open Sessions: October 22, 2007, from 10 a.m. to 5 p.m. and October 23, 2007, from 8 a.m. to 5 p.m.

Address for Public Meeting: U.S. Nuclear Regulatory Commission, Two White Flint North Building, Room T2B3, 11545 Rockville Pike, Rockville, Maryland 20852.

Public Participation: Any member of the public who wishes to participate in the meeting should contact Ms. Tull using the information below.

Contact Information: Ashley M. Tull, e-mail: amt1@nrc.gov, telephone: (301) 415-5294 or (918) 488-0552.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by October 17, 2007, and must pertain to the topic on the agenda for the meeting.

2. Questions and comments from members of the public will be permitted during the meeting, at the discretion of the Chairman.

3. The transcript and written comments will be available for inspection on NRC's web site (http://www.nrc.gov) and at the NRC Public Document Room, 11555 Rockville Pike, Rockville, MD 20852-2738, telephone (800) 397-4209, on or about January 23, 2008. Minutes of the meeting will be available on or about December 7, 2007.

4. Persons who require special services, such as those for the hearing impaired, should notify Ms. Tull of their planned attendance.

This meeting will be held in accordance with the Atomic Energy Act of 1954, as amended (primarily Section 161a); the Federal Advisory Committee Act (5 U.S.C. App); and the Commission's regulations in Title 10, U.S. Code of Federal Regulations, part 7.

Dated at Rockville, Maryland this 1st day of October 2007.
J. Samuel Walker,
Acting Secretary of the Commission.

[FR Doc. E7-19685 Filed 10-4-07; 8:45 am]

BILLING CODE 7590-01-P